DEPARTMENT OF THE INTERIOR

Bureau of Land Management

[LLNM910000 L07772100.XX0000 212L1109AF]

Second Call for Nominations for the Bureau of Land Management New Mexico Resource Advisory Councils

AGENCY: Bureau of Land Management, Interior.

ACTION: Notice.

SUMMARY: The purpose of this notice is to request public nominations to the Bureau of Land Management's (BLM) Northern New Mexico Resource Advisory Council (RAC) and Southern New Mexico RAC that have vacant positions and/or members whose terms are scheduled to expire. These RACs provide advice and recommendations to the BLM on land use planning and management of the National System of Public Lands within their geographic areas.

DATES: All nominations must be received no later than June 1, 2021.

ADDRESSES: Nominations and completed applications should be sent to the appropriate BLM offices listed in the SUPPLEMENTARY INFORMATION section of this notice.

FOR FURTHER INFORMATION CONTACT: Allison Sandoval, BLM New Mexico State Office, 301 Dinosaur Trail, Santa Fe, NM 87508, telephone: 505-954-2019, email: aesandoval@blm.gov. Persons who use a telecommunications device for the deaf (TDD) may call the Federal Relay Service (FRS) at 1-800-877-8339 to contact Ms. Sandoval during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784. The RACs include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian tribes within or adjacent to the area for which the RAC is organized; are employed as academicians in natural resource management or the natural sciences; or represent the affected public at large.

Individuals may nominate themselves or others. Nominees must be residents of the State of New Mexico. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf

—Letters of reference from represented interests or organizations; and

—Any other information that addresses the nominee's qualifications.

Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Nominations and completed applications for RACs should be sent to the appropriate BLM offices listed below:

New Mexico

Southern New Mexico RAC

Glen Garnand, BLM Roswell Field Office, 2909 West Second Street, Roswell, NM 88201; Phone: (575) 627-0209.

Northern New Mexico RAC

Jillian Aragon, BLM Farmington Field Office, 6251 College Boulevard, Suite A, Farmington, NM 87402; Phone: (505) 564-7722.

(Authority: 43 CFR 1784.4-1)

Steven R. Wells,
Acting New Mexico State Director.

[FR Doc. 2021-08882 Filed 4-28-21; 8:45 am]

BILLING CODE 4310-FB-P